ENVIRONMENTAL PROTECTION AGENCY

40 CFR Parts 52 and 81

[Docket No. R10-OAR-2004-WA-0003; FRL-7927-3]

Approval and Promulgation of Air Quality Implementation Plans; Spokane PM10 Nonattainment Area Limited Maintenance Plan and Redesignation Request

AGENCY: Environmental Protection Agency (EPA).

ACTION: Proposed rule.

SUMMARY: EPA is proposing to approve revisions to the Limited Maintenance Plan for the Spokane nonattainment area (NAA) in Washington and grant the request by the State to redesignate the area from nonattainment to attainment for PM10. On November 30, 2004, the State of Washington submitted a Limited Maintenance Plan (LMP) for the Spokane nonattainment area (NAA) for approval and concurrently requested that EPA redesignate the Spokane NAA to attainment for the National Ambient Air Quality Standards (NAAQS) for particulate matter with an aerodynamic diameter less than or equal to a nominal 10 micrometers (PM10). In 1997, EPA approved Washington's moderate area plan for the Spokane NAA for all PM10 sources except windblown dust. In this action, EPA is also proposing to approve the remaining elements of the Spokane NAA moderate area plan for windblown dust sources.

DATES: Comments must be received on or before August 1, 2005.

ADDRESSES: Submit your comments, identified by Docket ID No. R10-OAR-2004-WA-0003, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• Mail: Gina Bonifacino, Office of Air, Waste and Toxics, OAWT-107 EPA, Region 10, 1200 Sixth Ave., Seattle, Washington 98101.

• Hand Delivery: EPA, Region 10 Mail Room, 9th Floor, 1200 Sixth Ave., Seattle, Washington 98101. Attention: Gina Bonifacino, Office of Air, Waste and Toxics, OAWT-107. Such deliveries are only accepted during normal hours of operation, and special arrangements should be made for deliveries of boxed information.

Please see the direct final rule which is located in the Rules section of this Federal Register for detailed instructions on how to submit comments.

FOR FURTHER INFORMATION CONTACT: Gina Bonifacino at telephone number: (206) 553-2970, e-mail address: bonifacino.gina@epa.gov, fax number: (206) 553-0110, or the above EPA, Region 10 address.

SUPPLEMENTARY INFORMATION: For further information, please see the direct final action, of the same title, which is located in the Rules section of this Federal Register. EPA is approving the State's SIP revision as a direct final rule without prior proposal because EPA views this as a noncontroversial SIP revision and anticipates no adverse comments. A detailed rationale for the approval is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: June 17, 2005.
Daniel D. Opalski,
Acting Regional Administrator, Region 10.

[FR Doc. 05-12947 Filed 6-30-05; 8:45 am]

BILLING CODE 6560-50-P